DEPARTMENT OF LABOR

Office of the Secretary

Agency Information Collection Activities; Submission for OMB Review; Comment Request; Confined and Enclosed Spaces and Other Dangerous Atmospheres in Shipyard Employment

ACTION: Notice.

SUMMARY: The Department of Labor (DOL) is submitting the Occupational Safety and Health Administration (OSHA) sponsored information collection request (ICR) titled, “Confined and Enclosed Spaces and Other Dangerous Atmospheres in Shipyard Employment,” to the Office of Management and Budget (OMB) for review and approval for continued use in accordance with the Paperwork Reduction Act (PRA) of 1995 (Pub. L. 104-13, 44 U.S.C. chapter 35).

DATES: Submit comments on or before August 29, 2011.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an e-mail to DOL_PRA_PUBLIC@dol.gov.

Submit comments about this request to the Office of Information and Regulatory Affairs, Attn: OMB Desk Officer for the Department of Labor, Occupational Safety and Health Administration (OSHA), Office of Management and Budget, Room 10235, Washington, DC 20503, Telephone: 202-395-6929/Fax: 202-395-6881 (these are not toll-free numbers), e-mail: OIRA_submission@omb.eop.gov.

FOR FURTHER INFORMATION: Contact Michel Smyth by telephone at 202-693-4129 (this is not a toll-free number) or by e-mail at DOL_PRA_PUBLIC@dol.gov.

SUPPLEMENTARY INFORMATION: The Confined and Enclosed Spaces and Other Dangerous Atmospheres in Shipyard Employment Standards of 29 CFR part 1915 require that employers: (1) Ensure competent persons conduct inspections and atmospheric testing prior to workers entering a confined or enclosed space (§ 1915.12(a)-(c)); (2) warn workers not to enter hazardous spaces and other dangerous atmospheres (§§ 1915.12 (a)-(c), 1915.16); (3) train workers who will be entering confined or enclosed spaces and certify such training has been provided (§ 1915.12(d)); (4) establish and train shipyard rescue teams or arrange for outside rescue teams and provide them with information (§ 1915.12(e)); (5) ensure one person on each rescue team maintains a current first aid training certificate (§ 1915.12(e)); (6) exchange information regarding hazards, safety rules, and emergency procedures concerning these spaces and atmospheres with other employers whose workers may enter these spaces and atmospheres (§ 1915.12(f)); (7) ensure testing of spaces having contained combustible or flammable liquids or gases and toxic, corrosive, or irritating substances, and other dangerous atmospheres, boundaries or pipelines before cleaning and other cold work is started and as necessary thereafter while the operations are ongoing (§ 1915.13(b)(2) and (4)); (8) post signs prohibiting ignition sources within or near a space that contains bulk quantities of flammable or combustible liquids or gases (§ 1915.13(b)(10)); (9) ensure confined and enclosed spaces are tested before workers perform hot work in these work areas (§ 1915.14(a)); (10) post warnings of testing conducted by competent persons and certificates of testing conducted by a Marine Chemist or Coast Guard authorized person in the immediate vicinity of the hot-work operation while the operation is in progress (§ 1915.14(a) and (b)); and (11) retain certificates of testing on file for at least three months after completing the operation (§ 1915.14(a)(2)).

These information collections are subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. The DOL obtains OMB approval for this information collection under OMB Control Number 1218-0011. The current OMB approval is scheduled to expire on August 31, 2011; however, it should be noted that existing information collection requirements submitted to the OMB receive a month-to-month extension while they undergo review. For additional information, see the related notice published in the Federal Register on March 29, 2011 (76 FR 17448).

Interested parties are encouraged to send comments to the OMB, Office of Information and Regulatory Affairs at the address shown in the ADDRESSES section within 30 days of publication of this notice in the Federal Register. In order to help ensure appropriate consideration, comments should reference OMB Control Number 1218-0011. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Title of Collection: Confined and Enclosed Spaces and Other Dangerous Atmospheres in Shipyard Employment.

OMB Control Number: 1218-0011.

Affected Public: Private Sector—Businesses or other for-profits.

Total Estimated Number of Respondents: 639.

Total Estimated Number of Responses: 1,905,700.

Total Estimated Annual Burden Hours: 312,764.

Total Estimated Annual Other Costs Burden: $0.

Dated: July 25, 2011.
Michel Smyth,
Departmental Clearance Officer.

[FR Doc. 2011-19219 Filed 7-28-11; 8:45 am]

BILLING CODE 4510-26-P